DEPARTMENT OF COMMERCE

National Oceanic and Atmospheric Administration

[I.D. 102706B]

Fisheries of the Northeastern United States; Northeast Multispecies Fishery, Scoping Process

AGENCY: National Marine Fisheries Service (NMFS), National Oceanic and Atmospheric Administration (NOAA), Commerce.

ACTION: Notice; intent to prepare a supplemental environmental impact statement (SEIS) and hold scoping meetings; request for comments.

SUMMARY: The New England Fishery Management Council (Council) announces its intent to prepare, in cooperation with NMFS, a supplemental environmental impact statement (SEIS) to assess the potential effects on the human environment of alternative measures for managing the Northeast (NE) multispecies fishery pursuant to the Magnuson-Stevens Fishery Conservation and Management Act. This notice announces a public process for determining the scope of issues to be addressed and for identifying the significant issues relating to management of the multispecies fishery. The Council will use the scoping process and the SEIS to develop Amendment 16 to the NE Multispecies Fishery Management Plan (FMP).

DATES: The Council will discuss and take scoping comments at public meetings in November and December 2006 (see SUPPLEMENTARY INFORMATION). Written scoping comments must be received on or before 5 p.m., local time, December 29, 2006.

ADDRESSES: The Council will take scoping comments at public meetings in Ellsworth, Maine; Portland, Maine; Portsmouth, New Hampshire; Gloucester, Massachusetts; Fairhaven, Massachusetts; South Kingstown, Rhode Island; Riverhead, New York; and New York City, New York. For specific locations and times, see SUPPLEMENTARY INFORMATION. Written comments and requests for copies of the scoping document and other information should be directed to Paul J. Howard, Executive Director, New England Fishery Management Council, 50 Water Street, Mill 2, Newburyport, MA 01950, telephone (978) 465-0492. Comments may also be sent via facsimile (fax) to (978) 465-3116 or via e-mail to comments@nefmc.org. Include in the subject line the following identifier: “Groundfish Amendment 16 Scoping Comments.” The scoping document is/will be accessible electronically via the Internet at http://www.nefmc.org.

FOR FURTHER INFORMATION CONTACT: Paul J. Howard, Executive Director, New England Fishery Management Council, (978) 465-0492.

SUPPLEMENTARY INFORMATION:

Background

The NE Multispecies FMP manages cod (Gadus morhua), haddock (Melanogrammus aeglefinus), white hake (Urophycis tenuis), pollock (Pollachius virens), Acadian redfish (Sebastes fasciatus), yellowtail flounder (Limanda ferrugineus), winter flounder (Psuedopleuronectes americanus), witch flounder (Glyptocephalus cynoglossus), American plaice (Hippoglossoides platessoides), windowpane flounder (Scopthalmus aquosos), Atlantic halibut (Hippoglossus hippoglossus), and ocean pout (Macrozoarces americanus). These species are managed as 19 individual stocks. The Council has managed these species as a unit under the FMP since 1985. Management measures include limited and open access permit categories, limits on fishing time through days-at-sea (DAS) allocations, gear requirements, closed areas, and retention limits. These measures have been adopted through a series of amendments and adjustments to the original FMP. The most recent amendment (Amendment 13, implemented on May 1, 2004) established rebuilding programs for 12 stocks. For most of these overfished stocks, the goal is to rebuild to a biomass that will support maximum sustainable yield by 2014.

Purpose of Action

Amendment 13 established a requirement and a process for a mid-point review of rebuilding progress and adjustments to management measures as necessary to continue rebuilding. As part of this process, each groundfish stock will be assessed in 2008. Stock size and fishing mortality rates will be estimated, and status determination criteria will be reviewed. This information will be used to determine adjustments to Amendment 13 measures that are necessary to continue rebuilding and achieve optimum yield from the fishery. Amendment 16 to the FMP would implement any revisions to management measures necessary to continue the rebuilding programs adopted by Amendment 13. Amendment 16 and its accompanying SEIS will be focused on the adjustments that are necessary to comply with the mid-term adjustment procedures of the FMP, to meet the fishing mortality rate objectives of the FMP, and to ensure that all groundfish stocks rebuild.

In addition to considering adjustments to the current effort control management system as modified by Amendment 13 and subsequent frameworks, the Council may consider other management systems that may replace or supplement the existing effort controls. Members of the public are encouraged to submit proposals for alternative management schemes during the scoping process. The Council will evaluate proposals received and may develop them into alternatives that will be considered in Amendment 16. To guide in the development of proposals, the Council will specify in the scoping document the types of issues that must be addressed for a proposal to warrant further consideration. A workshop will be held at a Groundfish Oversight Committee meeting on November 3, 2006, to develop advice on these standards. The Council will use the information from the workshop to establish the standards at the Council meeting on November 14 - 16, 2006. This information should be available shortly after the Council meeting. Proposals should be as fully developed as possible when submitted in order to facilitate a prompt review and decision on whether to include the proposal in the amendment. Because of the limited time available for the development of this amendment, the Council may not consider alternative management schemes that are suggested outside of the scoping process.

The Northeast Fisheries Science Center is planning to assess stocks of wolffish (Anarhichas lupus) and cusk (Brosme brosme) in 2007. The Council will consider the results of those assessments when developing this action and may adopt measures necessary to manage those stocks.

Measures Under Consideration

The Council may consider several types of management measures to continue the multispecies rebuilding program including, but not limited to:

• Changes to the current DAS management system, such as modifications to DAS allocation and use, changes to gear requirements, modified possession limits, additions or changes to seasonal and year-round closed areas, or changes to special management programs;

• Recreational fishery measures such as seasons, bag limits, or area closures;

• Total allowable catch management systems;

• Area management systems;

• Individual quota systems, including individual transferable quota systems; and

• Sector management systems.

The types of measures under consideration include those described in Amendment 13 as well as alternative management systems that may be suggested during this scoping process. Information on specific topics for which the Council is soliciting comment is in the scoping document, which will be available on the Council web site (http://www.nefmc.org) on or about November 15.

Scoping Process

It is the Council's and NMFS's intent to encourage all persons affected by or otherwise interested in the management of NE multispecies to participate in the process to determine the scope and significance of issues to be analyzed in the SEIS and amendment. All such persons are encouraged to submit written comments (see ADDRESSES) or comment at one of the scoping meetings. Persons submitting written comments may wish to address the specific measures introduced in the previous section. The scope of the SEIS consists of the range of actions, alternatives, and impacts to be considered. Alternatives may include the following: not amending the FMP (taking no action); developing an amendment that contains management measures such as those discussed in this notice; or other reasonable courses of action. Impacts may be direct, indirect, or cumulative.

This scoping process also will identify and eliminate from further detailed analysis issues that are not significant. After the scoping process is completed, the Council will proceed with the development of Amendment 16 and the Council will prepare an SEIS to analyze the impacts of the range of alternatives considered in the amendment.

To ensure that the fishery continues to meet the Amendment 13 rebuilding objectives, any revisions to management measures included in Amendment 16 need to be implemented by May 1, 2009. In order to incorporate the latest catch and survey data into the proposed adjustment, the assessment of groundfish stocks scheduled for 2008 (the Groundfish Assessment and Review Meeting, or GARM) cannot be conducted until August 2008. Therefore, because of the lengthy process involved with evaluating the impacts of any changes to the FMP, the Council and NMFS propose to start the environmental review process as early as possible. As such, it will be necessary to develop and publish a draft SEIS for Amendment 16 using the best available data prior to the August 2008 GARM. The intent is to fully evaluate an adequate range of alternatives in the draft SEIS to project the full range of likely impacts resulting from any proposed adjustments to management measures. The Council will then hold public hearings to receive comments on the draft amendment and on the analysis of its impacts presented in the draft SEIS. Once the GARM has evaluated the status of groundfish stocks in August 2008, that information will be incorporated into the final SEIS to further refine the precision of the impact analysis presented in the draft SEIS.

Scoping Hearing Schedule

The Council will discuss and take scoping comments at the following public meetings:

1. Monday, November 27, 2006, from 5 - 8 p.m.; Holiday Inn, US Route 1&3, Ellsworth, ME 04605; telephone:(207) 667-9341.

2. Tuesday, November 28, 2006, from 5 - 8 p.m.; Eastland Park Hotel, 157 High Street, Portland, ME 04101; telephone: (207) 775-5411.

3. Wednesday, November 29, 2006, from 5 - 8 p.m.; Urban Forestry Center, 45 Elwyn Road, Portsmouth, NH; telephone:(603) 431-6774.

4. Thursday, November 30, 2006, from 5 - 8 p.m.; Massachusetts Department of Marine Fisheries Annisquam River Station, 30 Emerson Avenue, Gloucester, MA 01950; (978) 282-0308.

5. Tuesday, December 5, 2006, from 5 - 8 p.m.; Best Western East End, 1830 Route 25, Riverhead, NY 11901; telephone: (631) 369-2200.

6. Wednesday, December 6, 2006, from 5 - 8 p.m.; Holiday Inn South Kingstown, 3009 Tower Hill Road, So. Kingstown, RI 02674; telephone: (401) 789-1051.

7. Thursday, December 7, 2006, from 5 - 8 p.m.; Holiday Inn Express, 110 Middle Street, Fairhaven, MA 02719; telephone: (508) 997-1281.

8. Wednesday, December 12, 2006, from 7 - 9 p.m.; Skyline Hotel,725 10th Avenue, New York, NY 10019; telephone: (212) 586-3400.

Special Accommodations

These meetings are accessible to people with physical disabilities. Requests for sign language interpretation or other auxiliary aids should be directed to Paul J. Howard (see ADDRESSES) at least 5 days prior to the meeting date.

Authority: 16 U.S.C. 1801 et seq.

Dated: October 30, 2006.
James P. Burgess,
Acting Director, Office of Sustainable Fisheries, National Marine Fisheries Service.

[FR Doc. E6-18682 Filed 11-3-06; 8:45 am]

BILLING CODE 3510-22-S